SUSQUEHANNA RIVER BASIN COMMISSION

Actions Taken at March 17, 2022 Meeting

AGENCY: Susquehanna River Basin Commission.

ACTION: Notice.

SUMMARY: As part of its regular business meeting held on March 17, 2022, Harrisburg, Pennsylvania, the Commission approved the applications of certain water resources projects, and took additional actions, as set forth in the SUPPLEMENTARY INFORMATION below.

DATES: March 17, 2022.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.net. Regular mail inquiries may be sent to the above address. See also Commission website at www.srbc.net.

SUPPLEMENTARY INFORMATION: In addition to the actions taken on projects identified in the summary above and the listings below, the following items were also acted upon at the business meeting: (1) Approved one grant agreement, a land acquisition agreement and a lease agreement; and (2) accepted staff recommendations for waiver of regulatory requirements related to renewal application deadlines for two projects.

Project Applications Approved

1. Project Sponsor and Facility: Artesian Water Company, Inc., New Garden Township, Chester County, Pa. Application for renewal of the transfer of water of up to 3.000 mgd (30-day average) from the Chester Water Authority (Docket No. 19961105).

2. Project Sponsor and Facility: Columbia Water Company, West Hempfield Township, Lancaster County, Pa. Applications for groundwater withdrawals (30-day averages) of up to 0.474 mgd from Chickies Well 2 and 0.596 mgd from Chickies Well 3.

3. Project Sponsor and Facility: Commonwealth Environmental Systems L.P., Foster, Frailey and Reilly Townships, Schuylkill County, Pa. Application for renewal of consumptive use of up to 0.150 mgd (peak day) (Docket No. 20070304).

4. Project Sponsor: Compass Quarries, Inc. Project Facility: Allan Myers Materials—Paradise Quarry, Paradise Township, Lancaster County, Pa. Modification to increase consumptive use (peak day) by an additional 0.068 mgd, for a total consumptive use of up to 0.150 mgd (Docket No. 20040608).

5. Project Sponsor: Corning Incorporated. Project Facility: Sullivan Park, Town of Erwin, Steuben County, N.Y. Applications for renewal of groundwater withdrawals (30-day averages) of up to 0.800 mgd from Well 2 and 0.800 mgd from Well 3, and consumptive use of up to 0.350 mgd (peak day) (Docket No. 19970705).

6. Project Sponsor and Facility: Coterra Energy Inc. (Meshoppen Creek), Lemon Township, Wyoming County, Pa. Application for renewal of surface water withdrawal of up to 1.000 mgd (peak day) (Docket No. 20170302).

7. Project Sponsor: County of Lycoming. Project Facility: Lycoming County Resource Management Services, Brady Township, Lycoming County, Pa. Application for renewal of consumptive use of up to 0.099 mgd (30-day average) (Docket No. 20070302).

8. Project Sponsor and Facility: Deep Woods Lake LLC, Dennison Township, Luzerne County, Pa. Applications for groundwater withdrawal of up to 0.200 mgd (30-day average) from Well SW-5 and consumptive use of up to 0.467 mgd (peak day).

9. Project Sponsor and Facility: Eagles Mere Country Club, Eagles Mere Borough and Shrewsbury Township, Sullivan County, Pa. Application for renewal of consumptive use of up to 0.120 mgd (peak day) (Docket No. 19970302).

10. Project Sponsor and Facility: EQT ARO LLC (West Branch Susquehanna River), Nippenose Township, Lycoming County, Pa. Application for renewal of surface water withdrawal of up to 0.720 mgd (peak day) (Docket No. 20170301).

11. Project Sponsor: Farmers Pride, Inc. Project Facility: Bell & Evans Plant 3, Bethel Township, Lebanon County, Pa. Applications for groundwater withdrawals (30-day averages) of up to 0.108 mgd from Well PW-1, 0.139 mgd from Well PW-2, and 0.179 mgd from Well PW-4.

12. Project Sponsor and Facility: Geisinger Health System, Mahoning Township, Montour County, Pa. Applications for renewal of consumptive use of up to 0.499 mgd (peak day) and groundwater withdrawal of up to 0.075 mgd (30-day average) from Well 3, as well as recognizing, assessing, and regulating historical withdrawals from the Mine Shaft Well (Docket No. 19910103).

13. Project Sponsor: Hampden Township. Project Facility: Armitage Golf Club, Hampden Township, Cumberland County, Pa. Application for renewal of consumptive use of up to 0.290 mgd (peak day) (Docket No. 19920101).

14. Project Sponsor and Facility: Millersburg Area Authority, Upper Paxton Township, Dauphin County, Pa. Application for renewal of groundwater withdrawal of up to 0.117 mgd (30-day average) from Well 14 (Docket No. 19930301).

15. Project Sponsor and Facility: Repsol Oil & Gas USA, LLC (Sugar Creek), West Burlington Township, Bradford County, Pa. Application for renewal of surface water withdrawal of up to 0.750 mgd (peak day) (Docket No. 20170308).

Project Scheduled for Action Involving a Diversion

1. Project Sponsor and Facility: Chester Water Authority, New Garden Township, Chester County, Pa. Applications for renewal of consumptive use and for an out-of-basin diversion of up to 3.000 mgd (30-day average) (Docket No. 19961104).

Project Tabled

17. Project Sponsor and Facility: Municipal Authority of the Township of East Hempfield dba Hempfield Water Authority, East Hempfield Township, Lancaster County, Pa. Applications for renewal of groundwater withdrawals (30-day averages) of up to 0.353 mgd from Well 6, 0.145 mgd from Well 7, 1.447 mgd from Well 8, and 1.800 mgd from Well 11, and Commission-initiated modification to Docket No. 20120906, which approves withdrawals from Wells 1, 2, 3, 4, and 5 and Spring S-1 (Docket Nos. 19870306, 19890503, 19930101, and 20120906).

Authority: Public Law 91-575, 84 Stat. 1509 et seq., 18 CFR parts 806, 807, and 808.

Dated: March 21, 2022.
Jason E. Oyler,
General Counsel and Secretary to the Commission.

[FR Doc. 2022-06229 Filed 3-23-22; 8:45 am]

BILLING CODE 7040-01-P